DEPARTMENT OF DEFENSE

Department of the Navy

Notice of Public Hearings for the Draft Environmental Impact Statement for Outdoor Research, Development, Test and Evaluation Activities, Naval Surface Warfare Center, Dahlgren Division, Dahlgren, VA

AGENCY: Department of the Navy, DoD.

ACTION: Notice.

SUMMARY: Pursuant to Section (102)(2)(c) of the National Environmental Policy Act (NEPA) and the Council on Environmental Quality regulations for implementing the procedural provisions of NEPA (Title 40 Code of Federal Regulations Parts 1500-1508), the Department of the Navy (DoN) has prepared and filed with the U.S. Environmental Protection Agency a Draft Environmental Impact Statement (EIS) to evaluate the potential environmental effects of expanding Naval Surface Warfare Center, Dahlgren Division's (NSWCDD) research, development, test and evaluation (RDT&E) activities within the Potomac River Test Range (PRTR) complex, Explosives Experimental Area (EEA) Range complex, the Mission Area, and Special-Use Airspace (SUA) located at Naval Support Facility (NSF) Dahlgren, Dahlgren, VA.

The DoN will conduct three public hearings to receive oral and written comments on the Draft EIS. Federal, state, and local agencies, elected officials, and other interested individuals and organizations are invited to be present or represented at the public hearings. This notice announces the dates and locations of the public hearings for this Draft EIS.

DATES AND ADDRESSES: Public hearings will be held on the following dates and locations:

1. September 11, 2012 at the Newburg Volunteer Rescue Squad and Fire Department, 12245 Rock Point Road, Newburg, MD 20664;

2. September 12, 2012 at the A.T. Johnson Alumni Museum, 18849 Kings Highway, Montross, VA 22520; and

3. September 13, 2012 at the Mary Washington University-Dahlgren Campus, 4224 University Drive, King George, VA 22485.

All meetings will be held from 6:00 p.m. to 8:00 p.m. and will begin with a presentation followed by a public comment period.

FOR FURTHER INFORMATION CONTACT: Commander, Naval Surface Warfare Center Dahlgren Division, 6149 Welsh Road, Suite 203, Dahlgren, VA 22448-5130, Attn: Code C6 (NSWCDD PAO), Fax: 1-540-653-4679, Email: DLGR_NSWC_EIS@NAVY.MIL, Phone: 1-540-653-8154, or Web site: http://www.navsea.navy.mil/nswc/dahlgren/EIS/index.aspx.

SUPPLEMENTARY INFORMATION: A Notice of Intent to prepare the NSWCDD Outdoor RDT&E Activities Draft EIS was published in the Federal Register on June 18, 2007 (72 FR 33456-33457). Five public scoping meetings were held on the following dates and locations:

1. July 23, 2007, Shiloh Baptist Church, 13457 Kings Highway, King George, VA 22485;

2. July 24, 2007, Christ Episcopal Church, 37497 Zach Fowler Road, Chaptico, MD 20621;

3. July 25, 2007, La Plata Volunteer Fire Department, 911 Washington Avenue, La Plata, MD 20646;

4. July 30, 2007, Saint Mary's Episcopal Church, 203 Dennison Street, Colonial Beach, VA 22443; and

5. July 31, 2007, Callao Rescue Squad Hall, 1348 Northumberland Highway, Callao, VA 22435.

The proposed action is to expand NSWCDD's RDT&E capabilities within the PRTR Complex, the EEA Range Complex, Mission Area, and SUA. These RDT&E activities include outdoor operations that require the use of ordnance, high-power electromagnetic (EM) energy, high-energy (HE) lasers, and chemical and biological simulants (non-toxic substances used to mimic dangerous agents). Under the proposed action, the average number of events that could take place annually (with the exception of large-caliber gun firing events) would increase above current baseline levels. To ensure that equipment and materials work effectively, even in less-than-ideal conditions, some activities would take place under conditions in which activities are now rarely/never conducted, such as at dusk, dawn, and night and in adverse weather.

The purpose of the proposed action is to enable NSWCDD to meet current and future mission-related warfare and force-protection requirements by providing RDT&E of surface ship combat systems, ordnance, HE lasers and directed-energy systems, force-level warfare, and homeland and force protection.

The need for the proposed action is to enable the DoN and other stakeholders to successfully meet current and future national and global defense challenges required under 10 U.S.C. 5062 (2006) by developing a robust capability to carry out assigned RDT&E activities within the PRTR and EEA Range Complexes, the Mission Area, and the SUA at NSF Dahlgren.

NSWCDD evaluated a range of alternatives that would meet action objectives, and applied screening criteria to identify those alternatives that were “reasonable” (i.e., practical and feasible). Reasonable alternatives were carried through the Draft EIS analysis. Screening criteria included:

1. Criterion 1—accommodate historical and current, baseline RDT&E mission requirements for activities that have the potential to affect human health and/or the environment; namely, those involving ordnance, the use of high-power EM energy, HE lasers, chemical simulants, and the use of the PRTR;

2. Criterion 2—accommodate known future requirements, which include the use of biological simulants alone;

3. Criterion 3—accommodate optimal potential future requirements by incorporating a margin of growth for the most actively evolving programs for which it is difficult to accurately forecast future needs, and include mixtures of biological and chemical simulants; and

4. Criterion 4—minimize impacts to commercial and recreational use of the Potomac River.

Reasonable alternatives were carried through the Draft EIS analysis. The Draft EIS considers three alternatives as summarized below:

1. No Action Alternative—maintains current operations and provides a baseline against which to measure the impacts of the other two alternatives.

2. Alternative 1—includes No Action Alternative plus growth above No Action Alternative levels necessary to meet RDT&E mission requirements in the near future.

3. Alternative 2—Provides for roughly 15% growth in activity levels above that of Alternative 1 to provide a margin of growth for the most actively evolving programs. It addresses current baseline requirements, known future requirements, and projected increases in the foreseeable future based on current trends. This alternative is the Preferred Alternative.

Alternatives 1 and 2 constitute increases in current activities of small-arms firing, detonations, high-power EM energy events, HE laser events, chemical and biological simulant (defense) events, and PRTR hours of use.

Alternative 2 (Preferred Alternative) satisfies current baseline requirements, includes the growth necessary to meet known RDT&E mission requirements for the near future and includes a margin of growth for the most actively evolving programs, namely those for which the numbers of future annual test events, firings, and hours of use are harder to predict because of the uncertainties inherent in carrying out RDT&E.

The Draft EIS evaluates the potential environmental effects associated with NSWCDD's outdoor RDT&E activities. Alternatives were evaluated within resource areas including land use and plans, coastal zone resources, socioeconomics, environmental justice communities, protection of children, utilities, air quality, noise levels, cultural resources, hazardous materials and hazardous waste, health and safety, geology, topography, soils and sediments, water resources, and aquatic and terrestrial biological resources. The analysis includes an evaluation of the direct, indirect, and cumulative impacts. Methods to reduce or minimize impacts to affected resources are addressed.

The DoN has made a preliminary finding that for all three alternatives there would be no significant impact to land use and plans, coastal zone resources, socioeconomics, low-income and minority populations, children, utilities, air quality, noise levels, cultural resources, hazardous materials and hazardous waste, health and safety, geology, topography, soils and sediments, water resources, and aquatic and terrestrial biological resources, and we are awaiting concurrence from the respective agencies.

All alternatives have the potential to affect fish and sea turtles species protected under the Endangered Species Act (ESA). In accordance with Section 7 of the ESA, the DoN consulted with the National Marine Fisheries Service (NMFS) for potential impacts to federally-listed species. NMFS concurred with the DoN's finding that the alternatives are not likely to adversely affect the endangered shortnose sturgeon, the Atlantic sturgeon, or ESA-listed sea turtles. No terrestrial animals or plants protected under the ESA, the Migratory Bird Treaty Act, or Bald and Golden Eagle Protection Act would be affected. Based on the DoN's analysis, the proposed action would not result in the incidental harassment of marine mammals protected under the Marine Mammal Protection Act.

The DoN is also consulting with NMFS regarding potential effects on essential fish habitat under the Magnuson Stevens Fishery Conservation and Management Act with the release of this Draft EIS. The DoN has made a preliminary finding that there would be no adverse impacts on essential fish habitat under any of the alternatives, and we are awaiting concurrence from NMFS.

Federal Coastal Consistency Determinations will be forwarded to Virginia and Maryland with the Draft EIS. Based on analysis, the DoN has made a preliminary finding that there would be no to minimal impact on coastal resources, and the Proposed Action is consistent to the maximum extent practical with Virginia and Maryland policies. We are awaiting concurrence from the Virginia and Maryland Coastal Management Programs.

The DoN consulted with the State Historic Preservation Officers (SHPOs) in Maryland and Virginia. Both SHPOs concluded there would be no adverse effect on National Register-listed or eligible resources in the areas of potential effect under all the alternatives.

NSWCDD will continue to adhere to general safety and environmental protective measures for all RDT&E activities and to implement specific protective measures for RDT&E activities using chemical and biological stimulants. No specific mitigation measures are required.

The Draft EIS was distributed to federal, state, and local agencies, elected officials, and other interested individuals and organizations. The public comment period will end on October 1, 2012. The Draft EIS is available for review or download at: http://www.navsea.navy.mil/nswc/dahlgren/EIS/index.aspx.

Copies of the Draft EIS are available for public review at the following libraries:

1. Lewis Egerton Smoot Memorial Library, 8562 Dahlgren Road, King George, VA 22485;

2. Cooper Memorial Library, 20 Washington Avenue, Colonial Beach, VA 22443;

3. Northumberland Public Library, 7204 Northumberland Highway, Heathsville, VA 22473;

4. Charles County Public Library, La Plata Branch, 2 Garrett Avenue, La Plata, MD 20646; and

5. St. Mary's County Library, Leonardtown Branch, 23250 Hollywood Road, Leonardtown, MD 20650.

Federal, state, and local agencies, elected officials, and interested individuals and organizations are invited to be present or represented at the public hearings where oral and written comments on the Draft EIS will be received. Oral statements will be heard and transcribed by a stenographer; however, to ensure the accuracy of the record, all statements should be submitted in writing. All statements, both oral and written, will become part of the public record on the Draft EIS and will be responded to in the Final EIS. Equal weight will be given to both oral and written statements. In the interest of available time, and to ensure all who wish to give an oral statement have the opportunity to do so, each speaker's comments will be limited to two (2) minutes. If a long statement is to be presented, it should be summarized at the public hearing with the full text submitted either in writing at the hearing, or mailed, faxed, or emailed to Commander, Naval Surface Warfare Center Dahlgren Division, 6149 Welsh Road, Suite 203, Dahlgren, VA 22448-5130, Attn: Code C6 (NSWCDD PAO), Fax: 1-540-653-4679, or Email: DLGR_NSWC_EIS@navy.mil during the comment period. All written comments must be postmarked or received by October 01, 2012 to ensure they become part of the official record. All comments will be addressed in the Final EIS.

Dated: August 20, 2012.
C.K. Chiappetta,
Lieutenant Commander, Judge Advocate General's Corps, U.S. Navy, Federal Register Liaison Officer.

[FR Doc. 2012-20937 Filed 8-23-12; 8:45 am]

BILLING CODE 3810-FF-P